DEPARTMENT OF THE INTERIOR

Fish and Wildlife Service

[Docket No. FWS-R4-ES-2025-0111; FXES11140400000-256-FF04EF4000]

Receipt of Incidental Take Permit Application and Proposed Habitat Conservation Plan for the Sand Skink and Blue-Tailed Mole-Skink, Polk County, FL; Categorical Exclusion

AGENCY: Fish and Wildlife Service, Interior.

ACTION: Notice of availability; request for comment.

SUMMARY: We, the Fish and Wildlife Service (Service), announce receipt of an application from the City of Davenport (applicant) for an incidental take permit (ITP) under the Endangered Species Act (ESA). The applicant requests the ITP to take the federally listed threatened sand skink and blue-tailed mole skink incidental to the expansion of the city's utility infrastructure in Polk County, Florida. We request public comment on the application, which includes the applicant's proposed habitat conservation plan (HCP), and on the Service's preliminary determination that the proposed permitting action may be eligible for a categorical exclusion pursuant to the National Environmental Policy Act (NEPA), the Department of the Interior's (DOI) NEPA regulations, and the DOI Departmental Manual (DM). To make this preliminary determination, we prepared a draft screening form and NEPA statement for HCPs, both of which are available for public review. We invite comment from the public and local, State, Tribal, and Federal agencies.

DATES: We must receive your written comments on or before October 14, 2025.

ADDRESSES:

Obtaining Documents: The documents this notice announces, as well as any comments and other materials that we receive, will be available for public inspection online in Docket No. FWS-R4-ES-2025-0111 at https://www.regulations.gov.

Submitting Comments: If you wish to submit comments on any of the documents, you may do so in writing by one of the following methods:

• Online: https://www.regulations.gov. Follow the instructions for submitting comments on Docket No. FWS-R4-ES-2025-0111.

• U.S. mail: Public Comments Processing, Attn: Docket No. FWS-R4-ES-2025-0111; U.S. Fish and Wildlife Service, MS: PRB/3W, 5275 Leesburg Pike, Falls Church, VA 22041-3803.

FOR FURTHER INFORMATION CONTACT: Jose Rivera, by U.S. mail (see ADDRESSES), by telephone at 772-226-8018, or via email at jose_rivera@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from the City of Davenport (applicant) for an ITP under the Endangered Species Act of 1973, as amended (ESA; 16 U.S.C. 1531 et seq.). The applicant requests the ITP to take the federally listed threatened sand skink (Neopseps (=Plestiodon) reynoldsi) and blue-tailed mole skink (Eumeces egregius lividus) (skinks), incidental to the expansion of the city's utility infrastructure in Polk County, Florida. We request public comment on the application, which includes the applicant's HCP, and on the Service's preliminary determination that this proposed ITP may qualify for a categorical exclusion pursuant to NEPA (42 U.S.C. 4321 et seq.), the DOI's NEPA regulations (43 CFR part 46), and the DOI's Departmental Manual (516 DM 8.5(C)(2)). To make this preliminary determination, we prepared a draft screening form and NEPA statement for HCPs, both of which are available for public review.

Proposed Project

The applicant requests a 10-year ITP to take skinks via the conversion of approximately 4.5 acres (ac) of occupied nesting, foraging, and sheltering skink habitat incidental to the expansion of its utility infrastructure on a 6.26 ac parcel within Sections 4 and 5 of Township 27 South in Range 27 East, Polk County, Florida. The applicant proposes to mitigate for take of skinks through the purchase of 9 ac of conservation credits (in accordance with the Service's 2:1 mitigation ratio guidelines) from a Service-authorized conservation bank prior to engaging in any phase of the project. The Service would require the applicant to purchase the credits prior to engaging in any phase of the project.

Our Preliminary Determination

The Service has made a preliminary determination that reasonably foreseeable effects of the applicant's proposed project, including the expansion of its existing utilities and associated infrastructure (e.g., electric, water, and sewer lines), would have a minor effect on the skinks and the human environment. Therefore, no extraordinary circumstances in 43 CFR 46.215 apply. Reasonably foreseeable effects encompass effects of implementation of the action including effects of the action in addition to other past, present, and reasonably foreseeable future effects. Therefore, we have preliminarily determined that the proposed ESA section 10(a)(1)(B) permit would be a low-effect ITP that may qualify for application of a categorical exclusion (516 DM 8.5(C)(2)), pursuant to NEPA, the DOI's NEPA regulations, and the DOI DM. A low-effect ITP is one that would result in (1) nonsignificant or minor individual or cumulative effects on species covered in the HCP; (2) no significant effects on the human environment; and (3) reasonably foreseeable effects that would not result in significant effects to the human environment.

Next Steps

The Service will evaluate the application and the comments to determine whether to issue the requested ITP. We will also conduct an intra-Service consultation pursuant to section 7 of the ESA to evaluate the effects of the proposed take. After considering the preceding and other matters, we will determine whether the permit issuance criteria of section 10(a)(1)(B) of the ESA have been met. If met, the Service will issue ITP number PER17860289 to the City of Davenport.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Authority

The Service provides this notice under section 10(c) of the Endangered Species Act (16 U.S.C. 1531 et seq.) and its implementing regulations (50 CFR 17.32), NEPA (42 U.S.C. 4321 et seq.) and the DOI's implementing regulations (43 CFR part 46).

José J. Rivera,
Acting Manager, Division of Environmental Review, Florida Ecological Services Field Office, U.S. Fish and Wildlife Service.

[FR Doc. 2025-17662 Filed 9-11-25; 8:45 am]

BILLING CODE 4333-15-P